DEPARTMENT OF THE INTERIOR

Bureau of Reclamation

[RR03250000; 24XR06801A; RX.002561A0.0019600]

Notice of Intent To Prepare an Environmental Impact Statement for the Verde Reservoirs Sediment Mitigation Project Unique Identification Number for Project: PXAO-25-2-NOI

AGENCY: Bureau of Reclamation, Interior.

ACTION: Notice of intent; request for comments.

SUMMARY: The Bureau of Reclamation (Reclamation) intends to prepare an environmental impact statement (EIS) for the Verde Reservoirs Sediment Mitigation Project (VRSMP or Project) in Maricopa and Yavapai Counties, Arizona. The VRSMP is a feasibility study authorized by the Infrastructure Investment and Jobs Act, Public Law 117-58, 135 Statute 429, section 40902(a)(1)(B)(i). The purpose of the Project is to restore lost capacity from sedimentation at Horseshoe Reservoir to mitigate reservoir sediment accumulation while addressing future water supply resiliency through increased surface water yield from the Salt River Federal Reclamation Project (SRFRP) Verde River reservoir system. Reclamation is seeking public comments to identify significant issues, effects, or other alternatives to be addressed in the EIS. Reclamation is also requesting relevant information, studies, or analyses with respect to the proposed action alternatives.

DATES: Comments on the scope of the EIS are due August 11, 2025.

Five public scoping meetings, three in-person and two web-based, virtual public scoping meetings, will be held to solicit comments on the scope of the EIS and the issues and alternatives that should be analyzed. The dates and locations of the scoping meetings will be announced at least 15 days in advance through the local media, newspapers, and the project website at https://www.virtualpublicmeeting.com/vrsmp-fr-eis.com. At the time of this publication, the dates and locations of the scoping meetings will be on the project website.

ADDRESSES: Send written scoping comments, requests to be added to the project mailing list, or requests for other special assistance needs via U.S. mail to the Phoenix Area Office, Bureau of Reclamation (ATTN: VRSMP EIS), 6150 West Thunderbird Road, Glendale, Arizona 85306, or by email to VRSMP@usbr.gov.

FOR FURTHER INFORMATION CONTACT: Ms. Nichole Olsker at (623) 773-6258, or by email at VRSMP@usbr.gov. Additional information is available online at https://www.virtualpublicmeeting.com/vrsmp-fr-eis.com. Information on this project may also be found at: https://www.usbr.gov/lc/phoenix/programs/VRSMP.html. Individuals who are deaf, deafblind, hard of hearing, or have a speech disability may dial 711 (TTY, TDD, or TeleBraille) to access telecommunications relay services. Individuals outside the United States should use the relay services offered within their country to make international calls to the point-of-contact in the United States.

SUPPLEMENTARY INFORMATION: This Federal Register notice provides the public with information regarding Reclamation's intent to prepare an EIS pursuant to the National Environmental Policy Act (NEPA) of 1969, as amended, 42 U.S.C. 4321 et seq.; the Department of the Interior's NEPA regulations, 43 CFR part 46; and part 516 of the Departmental Manual. Additionally, this notice serves to provide notice and request public input on potential effects on historic properties from this project in accordance with the section 106 process as defined in the National Historic Preservation Act (NHPA), 54 U.S.C. 306108, and the Advisory Council on Historic Preservation's (ACHP) regulations for implementing NHPA, (36 CFR 800.2(d)(3)).

Background

In December 2021, Reclamation, in partnership with the Salt River Project Agricultural Improvement and Power District and the Salt River Valley Water Users' Association (collectively SRP), as the non-Federal cost-share partner and project sponsor, completed the Verde Reservoirs Sediment Mitigation Study appraisal report (VRSMS). The objective of the VRSMS was to examine potential alternatives to resolve the issue of lost storage capacity due to sediment accumulation in the SRFRP's reservoir system on the Verde River in Arizona, which consists of Bartlett and Horseshoe Dams and Reservoirs. The VRSMS also assessed opportunities to create additional benefits for each alternative analyzed. The appraisal report recommended that a feasibility study be carried out to determine the technical, environmental, economic, and financial feasibility of implementing one of the Bartlett Dam modification alternatives analyzed in the VRSMS. Authorization for the feasibility study was provided in 2021 in the Infrastructure Investment and Jobs Act, Public Law 117-58, 135 Stat. 429 (Nov. 15, 2021), section 40902(a)(1)(B)(i). The VRSMP feasibility study will investigate and analyze: (a) the design of the two Bartlett Dam modification alternatives identified as viable for feasibility-level analysis in the VRSMS; (b) at least one non-structural sediment and water management alternative; (c) a no action alternative; and (d) other alternatives developed through the NEPA process.

The SRFRP is a Federal reclamation project. The SRFRP includes an approximately 248,000-acre service area in Maricopa County, Arizona, as well as infrastructure in portions of Maricopa, Gila, Yavapai, and Coconino Counties, Arizona. The SRFRP water supply is developed from seven storage dams on the Salt River, Verde River, and East Clear Creek and from water withdrawn from approximately 270 groundwater wells throughout the service area. SRP operates and maintains the SRFRP in accordance with contracts with the United States. The SRFRP delivers water through more than 1,200 miles of canals, laterals, and ditches to users including shareholders, cities, towns, irrigation districts, Indian Tribes, and individuals.

Horseshoe Dam is an earthen embankment dam on the Verde River. Horseshoe Dam was originally constructed in 1946. Horseshoe Dam has been modified, including in 1949 to add spillway gates funded by the City of Phoenix. The total storage capacity of Horseshoe Dam and Reservoir was originally 144,030 acre-feet (AF) but, due to sedimentation, is currently approximately 108,000 AF. Under the current sedimentation rate, it is estimated Horseshoe Reservoir sediment would reach the spillway gates in a little over 100 years from now.

Bartlett Dam is a multiple arch concrete dam on the Verde River. Bartlett Dam was originally constructed in 1939 and modified in 1994 and 1996 to address the National Dam Safety Program Act, in the Water Resources Development Act of 1996 (Pub. L. 104-303, 110 Stat. 3658). Bartlett Dam is located downstream of Horseshoe Dam. The total storage capacity of Bartlett Reservoir in 1939 was 182,608 AF. Due to sedimentation, Bartlett Reservoir has a current capacity of approximately 168,000 AF.

Purpose and Need for Action

The purpose of the Proposed Action is to restore lost storage capacity from sediment accumulation at Horseshoe Reservoir and mitigate reservoir sediment accumulation while addressing future water supply resiliency through increased surface water yield from the SRFRP's Verde River reservoir system.

As of a 2021 sediment survey, approximately 36,000 AF of water storage capacity has been lost to sediment accumulation in Horseshoe Reservoir. This capacity loss represents approximately one-fourth of Horseshoe Reservoir's original storage capacity. Additionally, Bartlett Reservoir has lost approximately 15,000 AF of storage capacity to sedimentation. Combined, Horseshoe and Bartlett Reservoirs sediment losses amount to approximately 15% of the total original storage capacity of the SRFRP Verde River reservoir system. Today, it is estimated that Horseshoe Reservoir loses approximately 500 AF of storage capacity per year from sedimentation, and Bartlett Reservoir loses approximately 180 AF per year. This loss of capacity on a highly variable river system, coupled with the increase in hydrologic variability anticipated with climate change, creates concerns about future SRFRP water deliveries. Restoring lost storage capacity and mitigating sediment accumulation impacts on storage capacity in the Verde River reservoir system would promote resiliency of future SRFRP water deliveries, aid the United States in meeting certain Federal obligations, and ensure that the SRFRP continues to fulfill its authorized purposes.

Central Arizona water users primarily rely on surface water from the Salt, Verde, and lower Colorado rivers, groundwater, and treated effluent. Changes or variations in the availability of lower Colorado River water supplies and groundwater resulting from, among other things, extended drought and climate change highlight the need for maintaining the resiliency of the water supplies from the Verde River. Constructing a new Verde River storage facility creates opportunities to benefit Indian Tribes and Arizona water users through the provision of additional water supplies, dam safety, flood routing, and recreation.

Preliminary Proposed Alternatives

The Bureau of Reclamation has preliminarily identified the following alternatives for evaluation in the EIS:

• Alternative 1—No Action: Under this alternative, the Verde River reservoir system operations and maintenance would continue as normal under existing contracts, including with current methods of sediment management (i.e., sluicing during high inflow events). No construction would occur under this alternative.

• Alternative 2—New Bartlett Dam and Reservoir Expansion (1,901-feet Normal Maximum Water Surface Elevation [NMWSE]) including Sediment Management Infrastructure: This alternative includes construction of a new Bartlett Dam and associated structures, relocation of affected recreation, administrative, and utility infrastructure, and implementation of sluicing operations to move sediment through the Verde River reservoir system. Reclamation would construct a new, larger Bartlett Dam directly downstream of the existing dam. The new Bartlett dam would expand the total reservoir capacity up to 650,122 AF, inclusive of 323,484 AF of additional storage capacity referred to as Bartlett New Verde Space (Bartlett NVS). The existing Bartlett Dam would be decommissioned and partially removed. The new Bartlett Dam would increase the normal maximum water surface elevation (NMWSE) in Bartlett Reservoir to approximately 1,901 feet, an increase of 101.8 feet in elevation compared with the existing reservoir. The new Bartlett Dam would be designed to include sediment sluicing gates via the low-level outlet works. There would be a severance and transfer of all existing water rights stored at Horseshoe Reservoir to the new Bartlett Reservoir. Horseshoe Reservoir would continue to operate as a storage reservoir for an estimated additional 108,000 AF of Vacated Horseshoe Space (VHS). New water rights would be acquired under Arizona law for Bartlett NVS and VHS. Upon completion of construction and the Secretary of the Interior transferring operation and maintenance to SRP, SRP would assume the care, operation, and maintenance of the new Bartlett Dam as part of the SRFRP. Under this operation plan, spill out of new Bartlett Dam would decrease in comparison to the No Action Alternative. SRP would manage the Verde River reservoir system such that the more senior water rights would accrue water first.

• Alternative 3—New Bartlett Dam and Reservoir Expansion (1,860 ft NMWSE) including Sediment Management Infrastructure: This alternative includes the same components as Alternative 2 except that it proposes the construction of a smaller new Bartlett Dam, a 60.8 ft raise in elevation compared to the existing reservoir. The dam designed for Alternative 3 has the same structural alignment and footprint as the Alternative 2 design. This alternative could provide an estimated 402,000 AF of total storage capacity and create approximately 75,000 AF of additional storage capacity (i.e., Bartlett NVS). The new Bartlett Dam would be designed to include sediment sluicing gates via the low-level outlet works. SRP would operate and maintain the Verde River reservoir system as described in Alternative 2. New water rights would be acquired under Arizona law for the additional space as described in Alternative 2.

• Alternative 4—Non-structural Sediment Management Plan & Maintenance Dredging: Reclamation guidance requires the inclusion of a non-structural alternative in feasibility analysis. SRP would modify its current sediment management plan through alteration of sluicing operations through Horseshoe and Bartlett Dams and implement a maintenance dredging program at Horseshoe Dam. The timing of sluicing operations would be determined based on the forecasting of inflow exceedances above the storage capacity.

Maintenance dredging at Horseshoe Reservoir would occur through use of mechanical dredging equipment (excavator and/or crane with clamshell bucket) supplemented by in-the-dry excavation equipment (e.g., excavators, bulldozers, and scrapers) to annually remove approximately 511 AF of sediment from Horseshoe Reservoir over a 100-year period. The dredged material would be relocated by truck to an offsite disposal area.

Principles, Requirements, and Guidelines

As part of the environmental analysis process, the Federal Principles, Requirements, and Guidelines for Water and Land Related Resources Implementation Studies (PR&Gs) will be applied to examine the various technical, economic, hydrologic, recreation and ecosystem services considerations of each alternative, including the No Action Alternative. The requirements of a PR&G analysis are unique to the process and are not included in the Council of Environmental Quality or Department of the Interior's NEPA implementing regulations. Additional information regarding the PR&Gs is available online at the website provided in the FOR FURTHER INFORMATION CONTACT section of this notice.

Statutory Authority and Anticipated Permits

NEPA [42 U.S.C. 4321 et seq.] requires Federal agencies to conduct an environmental analysis of their proposed action alternatives to determine whether the actions may significantly affect the human environment. The EIS will analyze the environmental effects of implementing the proposed action and alternatives, and a No Action Alternative. The Project is expected to have effects on the following resources: biology (including threatened and endangered species, special status species, wildlife, and vegetation and land cover), cultural, water (i.e., supply and quality), floodplains, air, visual resources, recreation, land use, geology, soils, climate change, socioeconomic, and Indian Trust Assets.

In addition to NEPA, various other Federal, State, and local authorizations may be required for the Proposed Action. Applicable Federal laws include, but are not limited to, the Endangered Species Act, Fish and Wildlife Coordination Act, Migratory Bird Treaty Act, Bald and Golden Eagle Protection Act, National Historic Preservation Act, Clean Air Act, and Clean Water Act. Permits and authorizations will not be sought until after congressional authorization for the Project and the record of decision is signed, if applicable.

Cooperating Agency Status

The U.S. Army Corps of Engineers, U.S. Forest Service, and U.S. Fish and Wildlife Service have accepted invitations to participate as cooperating agencies for the EIS. The U.S. Forest Service anticipates a potential amendment to the Tonto National Forest' Land and Resource Management Plan and issuance and/or modification to Special Use Permits under the Preliminary Proposed Alternatives. These actions would be analyzed in this EIS. Other entities will be considered, as necessary, during the EIS process. If, based on the Proposed Action, your agency believes it has special expertise or jurisdiction by law, please respond within 30 days of the date of publication of this notice to the person listed in the FOR FURTHER INFORMATION CONTACT section of this notice.

Public Disclosure

Before including your address, phone number, email address, or other personal, identifying information in your comment submission, you should be aware that your entire comment—including your personal identifying information—may be made publicly available at any time. While you can ask us in your comment to withhold personal identifying information from public review, we cannot guarantee that we will be able to do so.

Schedule for Decision Making Process

The EIS will be an accompanying document to the feasibility report. A record of decision would be signed, if applicable, after congressional authorization.

How to Request Reasonable Accommodation

For special assistance at one of the scoping meetings, please contact Ms. Nichole Olsker or the TDD line (see FOR FURTHER INFORMATION CONTACT section of this notice) at least 5 working days before the meetings. All meeting facilities are physically accessible to people with disabilities. Information regarding this project is available in alternate formats upon request.

Christina Davis-Kernan,
Acting Regional Director, Lower Colorado Basin, Bureau of Reclamation.

[FR Doc. 2025-12949 Filed 7-10-25; 8:45 am]

BILLING CODE 4332-90-P